ENVIRONMENTAL PROTECTION AGENCY

[9936-75-Region 1]

Proposed CERCLA Administrative Cost Recovery Settlement; RBF Frozen Desserts, LLC, RBF Frozen Desserts Site, West Hartford, Connecticut

AGENCY: Environmental Protection Agency (EPA).

ACTION: Notice of proposed settlement; request for public comments.

SUMMARY: In accordance with Section 122(i) of the Comprehensive Environmental Response Compensation, and Liability Act, as amended (“CERCLA”), 42 U.S.C. Section 9622(i), notice is hereby given of a proposed administrative settlement for recovery of response costs under CERCLA Sections 122(h) and 104(e), concerning the RBF Frozen Desserts Superfund Site in West Hartford, Connecticut with the following settling party: RBF Frozen Desserts, LLC. The settlement requires the RBF Frozen Desserts, LLC to pay $122,518.89 to the Hazardous Substance Superfund, with interest.

For 30 days following the date of publication of this notice, the Agency will receive written comments relating to the settlement. The United States will consider all comments received and may modify or withdraw its consent to the settlement if comments received disclose facts or considerations which indicate that the settlement is inappropriate, improper, or inadequate. The Agency's response to any comments received will be available for public inspection at 5 Post Office Square, Boston, MA 02109-3912.

DATES: Comments must be submitted by December 9, 2015.

ADDRESSES: Comments should be addressed to Michelle Lauterback, Senior Enforcement Counsel, U.S. Environmental Protection Agency, 5 Post Office Square, Suite 100 (OES04-1), Boston, MA 02109-3912 (Telephone No. 617-918-1774), lauterback.michelle@epa.gov, and should refer to: In re: RBF Frozen Desserts Superfund Site, U.S. EPA Docket No. 01-2015-0071.

FOR FURTHER INFORMATION CONTACT: A copy of the proposed settlement may be obtained from Michelle Lauterback, Senior Enforcement Counsel, U.S. Environmental Protection Agency, 5 Post Office Square, Suite 100 (OES04-1), Boston, MA 02109-3912; (617) 918-1774; lauterback.michelle@epa.gov.

SUPPLEMENTARY INFORMATION: This proposed administrative settlement for recovery of response costs under CERCLA Sections 122(h)(1) and 104(e)(6), concerning the RBF Frozen Desserts Superfund Site in West Hartford, Connecticut, requires the settling party, RBF Frozen Desserts, LLC to pay $122,518.89, with interest, to the Hazardous Substance Superfund. The settlement includes a covenant not to sue pursuant to Sections 106 and 107(a) of CERCLA, 42 U.S.C. 9606 and 9607, relating to the Site, and protection from contribution actions or claims as provided by Sections 113(f)(2) and 122(h)(4) of CERCLA, 42 U.S.C. 9613(f)(2) and 9622(h)(4). The settlement has been approved by the Environmental and Natural Resources Division of the United States Department of Justice.

Dated: October 26, 2015.
Nancy Barmakian,
Acting Director, Office of Site Remediation and Restoration.

[FR Doc. 2015-28496 Filed 11-6-15; 8:45 am]

BILLING CODE 6560-50-P